DEPARTMENT OF HEALTH AND HUMAN SERVICES

National Institutes of Health

National Center for Complementary and Alternative Medicine; Notice of Meeting

Pursuant to section 10(d) of the Federal Advisory Committee Act, as amended (5 U.S.C. Appendix 2), notice is hereby given of a meeting of the National Institute Council for Complementary and Alternative Medicine.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Complementary and Alternative Medicine.

Date: August 27, 2001.

Open: 8:30 a.m. to 5 p.m.

Agenda: The agenda will include a Center Initiative Update, an Interim Report of the White House Commission on CAM Policy, and other business of the Council.

Place: Neuroscience Conference Center, 6001 Executive Boulevard, Conference Room C and D, Rockville, MD 20852.

Closed: 3 p.m. to Adjournment.

Agenda: To review and evaluate grant applications.

Place: Neuroscience Conference Center, 6001 Executive Boulevard, Conference Room C and D, Rockville, MD 20852.

Contact Person: Jane F. Kinsel, National Center for Complimenary Medicine, National Institutes of Health, 9000 Rockville Pike, Building 31, Room 5B38, Bethesda, MD 20892, (301) 435-5042, kinselj@mail.nih.gov.

This notice is being published less than 15 days prior to the meeting due to the timing limitations imposed by the review and funding cycle.

Any interested person may file written comments with the committee by forwarding the statement to the Contact Person listed on this notice. The statement should include the name, address, telephone number and when applicable, the business or professional affiliation of the interested person.

Information is also available on the Institute's/Center's home page: nccam.nih.gov/nccam/an/advisory/index.html, where an agenda and any additional information for the meeting will be posted when available.

Dated: August 21, 2001.
LaVerne Y. Stringfield,
Director, Office of Federal Advisory Committee Policy.

[FR Doc. 01-21770 Filed 8-28-01; 8:45 am]

BILLING CODE 4140-01-M